NUCLEAR REGULATORY COMMISSION

10 CFR Parts 40, 74, 75 and 150

[NRC-2019-0108]

Revision to NUREG/BR-0006 and NUREG/BR-0007

AGENCY: Nuclear Regulatory Commission.

ACTION: Draft NUREGs; request for comment.

SUMMARY: The U.S. Nuclear Regulatory Commission (NRC) is issuing for public comment draft NUREGs, NUREG/BR-0006, Revision 9, “Instructions for Completing Nuclear Material Transaction Reports,” and NUREG/BR-0007, Revision 8, “Instructions for the Preparation and Distribution of Material Status Reports.” These NUREG brochures provide guidance for licensees submitting material transaction reports and material status reports to the Nuclear Materials Management and Safeguards System (NMMSS). Revisions to these NUREGs do not change existing reporting requirements; however, clarifications and additional examples of data to be reported have been included in these revised drafts.

DATES: Submit comments by November 13, 2019. Comments received after this date will be considered if it is practical to do so, but the Commission is able to ensure consideration only for comments received before this date.

ADDRESSES: You may submit comments by any of the following methods:

• Federal Rulemaking Website: Go to https://www.regulations.gov/ and search for Docket ID NRC-2019-0108. Address questions about NRC docket IDs in Regulations.gov to Jennifer Borges; telephone: 301-287-9127; email: Jennifer.Borges@nrc.gov. For technical questions, contact the individual listed in the FOR FURTHER INFORMATION CONTACT section of this document.

• Mail Comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Mirabelle Shoemaker, Office of Nuclear Material Safety and Safeguards, telephone: 301-415-7363, email: Mirabelle.Shoemaker@nrc.gov; U.S. Nuclear Regulatory Commission, Washington, DC 20555-0001.

SUPPLEMENTARY INFORMATION:

I. Obtaining Information and Submitting Comments

A. Obtaining Information

Please refer to Docket ID NRC-2019-0108 when contacting the NRC about the availability of information for this action. You may obtain publicly-available information related to this action by any of the following methods:

• Federal Rulemaking Website: Go to https://www.regulations.gov/ and search for Docket ID NRC-2019-0108.

• NRC's Agencywide Documents Access and Management System (ADAMS): You may obtain publicly available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov. The “Instructions for Completing Nuclear Material Transaction Reports,” NUREG/BR-0006 and “Instructions for and the Preparation and Distribution of Material Status Reports,” NUREG/BR-0007 are available in ADAMS under Accession Nos. ML19214A180 and ML19212A768.

• NRC's PDR: You may examine and purchase copies of public documents at the NRC's PDR, Room O1-F21, One White Flint North, 11555 Rockville Pike, Rockville, Maryland 20852.

B. Submitting Comments

Please include Docket ID NRC-2019-0108 in your comment submission.

The NRC cautions you not to include identifying or contact information that you do not want to be publicly disclosed in your comment submission. The NRC will post all comment submissions at https://www.regulations.gov/ as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

NUREG/BR-0006 and NUREG/BR-0007 provide instructions for reporting information to the Nuclear Materials Management and Safeguards Systems (NMMSS), as required by NRC regulations. The NRC is revising these documents to provide additional clarification and examples of nuclear material transaction reports and nuclear material status reports, to aid the licensee community in preparing clear and accurate submittals. The draft revisions of these NUREGs are being made available for public comments to allow opportunity for further suggestions to improve their clarity and utility.

Dated at Rockville, Maryland, this 12th day of August 2019.
For the Nuclear Regulatory Commission.
James L. Rubenstone,
Chief, Material Control and Accounting Branch, Division of Fuel Cycle Safety Safeguards and Environmental Review, Office of Nuclear Material Safety and Safeguards.

[FR Doc. 2019-17514 Filed 8-14-19; 8:45 am]

BILLING CODE 7590-01-P